DEPARTMENT OF COMMERCE

Foreign-Trade Zones Board

[B-55-2022]

Foreign-Trade Zone (FTZ) 125; Authorization of Production Activity; REV Recreation Group, Inc. d/b/a Midwest Automotive Designs; (Passenger Vehicles); Elkhart, Indiana

On November 17, 2022, REV Recreation Group, Inc. d/b/a Midwest Automotive Designs submitted a notification of proposed production activity to the FTZ Board for its facility within FTZ 125, in Elkhart, Indiana.

The notification was processed in accordance with the regulations of the FTZ Board (15 CFR part 400), including notice in the Federal Register inviting public comment (87 FR 72446, November 25, 2022). On March 17, 2023, the applicant was notified of the FTZ Board's decision that no further review of the activity is warranted at this time. The production activity described in the notification was authorized, subject to the FTZ Act and the FTZ Board's regulations, including Section 400.14.

Dated: March 17, 2023.
Elizabeth Whiteman,
Acting Executive Secretary.

[FR Doc. 2023-05868 Filed 3-21-23; 8:45 am]

BILLING CODE 3510-DS-P